Title 3—

The President

Presidential Determination No. 2020-04 of November 1, 2019

Presidential Determination on Refugee Admissions for Fiscal Year 2020

Memorandum for the Secretary of State

By the authority vested in me as President by the Constitution and the laws of the United States, in accordance with section 207 of the Immigration and Nationality Act (the “Act”) (8 U.S.C. 1157), after appropriate consultations with the Congress, and consistent with the Report on Proposed Refugee Admissions for Fiscal Year 2020 submitted to the Congress on September 26, 2019, I hereby determine and authorize as follows:

The admission of up to 18,000 refugees to the United States during Fiscal Year 2020 is justified by humanitarian concerns or is otherwise in the national interest. These admissions shall be allocated among refugees of special humanitarian concern to the United States in accordance with the following allocations:

Additionally, after consultation with the Secretary of Homeland Security, the Secretary of Health and Human Services, and the Attorney General, and upon notification to the appropriate committees of the Congress, you are further authorized to transfer unused admissions from a particular allocation above to one or more other allocations, if such transfer would be in the national interest and there is a need for greater admissions for the allocation to which the admissions will be transferred.

Consistent with section 2(b)(2) of the Migration and Refugee Assistance Act of 1962 (22 U.S.C. 2601(b)), I hereby determine that assistance to or on behalf of persons applying for admission to the United States as part of the overseas refugee admissions program will contribute to the foreign policy interests of the United States, and I accordingly designate such persons for this purpose.

Consistent with section 101(a)(42) of the Act (8 U.S.C. 1101(a)(42)), and after appropriate consultation with the Congress, I also specify that, for Fiscal Year 2020, the following persons may, if otherwise qualified, be considered refugees for the purpose of admission to the United States within their countries of nationality or habitual residence:

a. persons in Cuba;

b. persons in Eurasia and the Baltics;

c. persons in Iraq;

d. persons in Honduras, Guatemala, and El Salvador; and

e. in exceptional circumstances, persons identified by a United States Embassy in any location.

You are authorized and directed to publish this determination in the Federal Register.

THE WHITE HOUSE,

Washington, November 1, 2019

[FR Doc. 2019-26082

Filed 11-27-19; 11:15 am]

Billing code 4710-10-P